DEPARTMENT OF EDUCATION

Early Learning

AGENCY: Office of the Secretary, Department of Education.

ACTION: Notice of public meetings and request for input.

SUMMARY: The U.S. Department of Education (ED), in collaboration with the U.S. Department of Health and Human Services (HHS) and through public meetings and written submissions, is seeking input from State agencies responsible for early learning and development, families (including families with children birth through third grade), educators (including early intervention service providers and other providers of services to young children), students, technical assistance providers, researchers of early learning, stakeholders who work with early learning and development for young children, and other members of the public regarding several important topics relating to early learning for children, birth through third grade: Understanding pre-kindergarten through third grade (P-3) Structures ;¹ Workforce and Professional Development; Family Engagement; and Standards and Assessments. Over the next two months, ED and HHS will be holding a series of “Listening and Learning about Early Learning” meetings to inform their work and hear how States and others are implementing innovative and successful approaches to improving early learning outcomes for children, birth through third grade, in the four areas listed in this notice. Neither ED nor HHS is proposing to make any changes to existing requirements in programs administered by these two Federal agencies through this notice.

¹ P-3 structures refer to systems that align a continuum of instructional strategies, professional development, standards, assessments, and other components from pre-kindergarten through third grade.

DATES: ED and HHS will hold public meetings on the dates and at the locations specified elsewhere in this notice. ED must receive all written submissions of comments on the four early learning topics on or before 5 p.m., Washington, DC time, on Tuesday, May 18, 2010.

ADDRESSES: For those planning to submit written input, we encourage submissions by e-mail using the following address: earlylearning.comments@ed.gov. You must include “Listening and Learning about Early Learning” and the topic area(s) to be addressed in the subject line of your e-mail. If you prefer to send your input by regular mail, you must address it to the Office of the Secretary, Attention: Listening and Learning about Early Learning—Public Input Meetings, U.S. Department of Education, 400 Maryland Avenue, SW., room 7W219, Washington, DC 20202.

FOR FURTHER INFORMATION CONTACT: Katy Chapman, U.S. Department of Education, 400 Maryland Avenue, SW., room 7W219, Washington, DC 20202. Telephone: (202) 453-7275 or by e-mail: earlylearning.comments@ed.gov.

If you use a telecommunications device for the deaf, call the Federal Relay Service, toll free, at 1-800-877-8339.

SUPPLEMENTARY INFORMATION:

Background: The President has outlined and is committed to a cradle through college and career agenda. High-quality early learning programs and services are critical to closing the achievement gap and ensuring that students are college and career ready to help us achieve our goal that the United States will lead the world in college completion by the year 2020. ED and HHS are committed to carrying out the President's birth through third grade early learning agenda that improves early learning outcomes for all children, especially high-needs children, to ensure that they are successful in school and in life. The listening and learning sessions, along with submitted comments, will help inform the Departments work, foster ongoing dialogue between state and local practitioners and the two departments, and reflects the continued collaborative relationship between the two departments to enact the Administration's early learning agenda. The Senior Advisor to the Secretary for Early Learning (ED) and the Deputy Assistant Secretary and Inter-Departmental Liaison for Early Childhood Development at the Administration for Children and Families (HHS) will lead the listening and learning meetings announced in this notice.

Details of Public Meetings

Structure of Public Meetings

ED and HHS anticipate that each meeting will have the following three components:

(1) Opening statements by officials from ED and HHS.

(2) Input from invited panels of experts.

• Each meeting will have an invited panel of experts in the field of early learning who will have a set amount of time to make presentations, with additional time allotted for questions from the public and from ED and HHS.

(3) Open opportunity for public speakers to share input.

• Each meeting will have 60 to 90 minutes for interested members of the public, who have registered to speak and raise questions.

○ Each individual registered and scheduled to speak will have up to five minutes to provide oral input.

○ Individuals who have registered and are scheduled to speak must limit their remarks to the topic of the specific meeting at which they are speaking.

○ We will also accept written submissions as described in the Submission of Written Input section of this notice.

Each meeting will focus on a particular topic as indicated in the next section of this notice. The Department will share any updates and other information about these meetings online at http://www.ed.gov.

Topic Areas, Dates, Times, Locations, and Registration Information

The early learning public meetings will occur on the following dates from 10 a.m. to 3:30 p.m. at the locations indicated below.

• Early Learning Topic Area: Understanding P-3 Structures

○ Friday, April 23, 2010, in Washington, DC; at the LBJ Auditorium at the Department's headquarters building in the Lyndon Baines Johnson Building, 400 Maryland Avenue, SW., Washington, DC.

• Early Learning Topic Area: Workforce and Professional Development

○ Monday, April 26, 2010, in Denver, Colorado; in the auditorium at the Center for Early Education, 3245 E. Exposition Avenue, Denver, CO.

• Early Learning Topic Area: Family Engagement

○ Tuesday, May 4, 2010, in Orlando, Florida; at the Orange County Public Schools Educational Leadership Center, 445 W. Amelia Street, Orlando, FL.

• Early Learning Topic Area: Standards and Assessments

○ Tuesday, May 11, 2010, in Chicago, Illinois; at the Polk Bros. Lecture Hall at the Erikson Institute, 451 N. LaSalle Street, Chicago, IL

How To Participate in the Early Learning Listening Tour

On-Site Attendance: Anyone who would like to attend or speak at a meeting must register at http://www.fsaregistration.ed.gov/profile/web/index.cfm?PKWebId=0x91942aeb2&varPage=agenda. We ask that anyone registering to attend one or more meetings do so at least four business days prior to each meeting they plan to attend. Seating and speaker slots are limited, so early registration is important to ensure that interested persons are able to secure seats, speaking slots, or both. Persons wishing to participate will receive an e-mail responding to their registration request. Anyone not having access to the Internet or to e-mail should call the number indicated in this notice to register. Speakers should come to the meeting prepared to provide an electronic copy of their comments (e.g., CD or flash drive). Federal staff will keep this information for our records.

Webinar Attendance for April 23, 2010: The Department is planning to hold the first early learning meeting in Washington, DC on April 23, 2010. This meeting will also be offered as a webinar. Anyone unable to attend the April 23rd meeting in person, but who would like an opportunity to hear the information shared and watch the slide presentations live, may go to http://www.fsaregistration.ed.gov/profile/web/index.cfm?PKWebId=0x91942aeb2&varPage=agenda and register as a webinar attendee. Webinar attendees will be in “listen” mode only.

Assistance to Individuals With Disabilities at the Public Meetings: The meeting sites will be accessible to individuals with disabilities and will make sign language interpreters available for anyone wishing to attend or speak who requests them at least five days prior to each meeting they plan to attend. Registrants must indicate whether they will need sign language interpreters or any other special accommodation in the “special accommodations” portion of the registration form. Attendees requiring an auxiliary aid or service to participate in a meeting (i.e., interpreting service such as oral, cued speech, or tactile interpreter; assisted listening device; or materials in alternate format), should notify the contact person listed under FOR FURTHER INFORMATION CONTACT at least two weeks before the scheduled meeting date. Although we will attempt to meet requests received less than two weeks before each meeting date, unless we receive two weeks' notice, we may not be able to make available the requested auxiliary aid or service because of insufficient time.

Submission of Written Input

All interested parties, including those who cannot attend a meeting or from whom we may not have enough time to hear at a meeting, may submit written input in response to this notice.

We will accept written input at the meeting site, or via e-mail or regular mail at the addresses listed in the ADDRESSES section of this notice. ED must receive all written submissions of comments on the four early learning topics on or before 5 p.m., Washington, DC time, on Tuesday, May 18, 2010.

When submitting input at the meetings, we request that you submit one paper copy and an electronic file (CD or flash drive) of your statement. Please include your name and contact information on the paper and electronic files.

Sharing Input Publicly

ED and HHS are committed to gathering and sharing publicly the input from the meetings and written submissions. We will make all written input that we receive from members of the public available at http://www.ed.gov.

Remarks for Input

All input, including expert presentations and discussions, public input, and written submissions at the meetings, must focus primarily on the topic listed elsewhere in this notice. We encourage all participants to make their input as specific as possible, and to provide evidence to support their input with data and citations to relevant research, as appropriate. We also strongly encourage all presenters to focus their remarks directly on the topic of the specific meeting they are attending: Understanding P-3 Structures (Washington, DC); Workforce and Professional Development (Denver, CO); Family Engagement (Orlando, FL); and Standards and Assessment (Chicago, IL).

Accessible Format: Individuals with disabilities can obtain this document in an accessible format (e.g., braille, large print, audiotape, or computer diskette) on request to the program contact person listed under FOR FURTHER INFORMATION CONTACT.

Electronic Access to This Document: You can view this document, as well as all other documents published in the Federal Register by ED or HHS, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 16, 2010.
Arne Duncan,
Secretary of Education.

[FR Doc. 2010-9276 Filed 4-20-10; 8:45 am]

BILLING CODE 4000-01-P